DEPARTMENT OF TRANSPORTATION

Federal Aviation Administration

14 CFR Part 39

[Docket No. 2000-NM-65-AD; Amendment 39-13594; AD 2004-09-05]

RIN 2120-AA64

Airworthiness Directives; Cessna Model 500, 501, 550, and 551 Airplanes

AGENCY: Federal Aviation Administration, DOT.

ACTION: Final rule; correction.

SUMMARY: This document corrects information in an existing airworthiness directive (AD) that applies to certain Cessna Model 500, 501, 550, and 551 airplanes. That AD currently requires a one-time inspection of the brake stator disks to determine to what change level they have been modified (if any), and related investigative and corrective actions if necessary. That AD also requires that the existing markings on the piston housing of certain brake assemblies be eliminated. This document corrects the compliance time for the inspection for cracked or broken stator disks on certain airplanes. This correction is necessary to ensure that affected airplanes are given sufficient time to comply with the requirements of this AD.

DATES: Effective June 2, 2004.

The incorporation by reference of certain publications listed in the regulations was approved previously by the Director of the Federal Register as of June 2, 2004 (69 FR 23093, April 28, 2004).

FOR FURTHER INFORMATION CONTACT: David Hirt, Aerospace Engineer, Systems and Propulsion Branch, ACE-116W, Wichita Aircraft Certification Office, 1801 Airport Road, Room 100, Mid-Continent Airport, Wichita, Kansas 67209; telephone (316) 946-4156; fax (316) 946-4107.

SUPPLEMENTARY INFORMATION: On April 16, 2004, the Federal Aviation Administration (FAA) issued AD 2004-09-05, amendment 39-13594 (69 FR 23093, April 28, 2004), which applies to certain Cessna Model 500, 501, 550, and 551 airplanes. That AD requires a one-time inspection of the brake stator disks to determine to what change level they have been modified (if any), and related investigative and corrective actions if necessary. That AD also requires that the existing markings on the piston housing of certain brake assemblies be eliminated. That AD was prompted by several reports of wheel lockups that appear to be caused by cracked or broken brake stator disks becoming jammed in the brake assembly and preventing rotation. The actions required by that AD are intended to prevent such wheel lockups and consequent jamming of the brake assembly, which may result in reduced directional control or braking performance during landing.

Need for the Correction

We recently obtained information which indicates that the compliance time for the inspection for cracked or broken stator disks on airplanes that do not use thrust reversers was stated incorrectly. Paragraph (b)(2) of the AD specifies that this inspection must be accomplished prior to the accumulation of 200 total landings on the brake assembly, or within 25 landings after the effective date of the AD, whichever is later. However, the compliance time for determining whether the stator disks are subject to this inspection, as stated in paragraph (a) of the AD, is 50 landings or 90 days after the effective date of the AD, whichever is first. The disparity between the compliance times—50 landings after the effective date of the AD for the initial inspection versus 25 landings after the effective date of the AD for the follow-on inspection—could result in certain airplanes being out of compliance with the requirements of paragraph (b)(2) of the AD before that airplane reaches the initial compliance time in paragraph (a) of the AD. To ensure that affected operators are given sufficient time to comply with the requirements of this AD, the grace period in paragraph (b)(2) of the AD should have been 50 landings, rather than 25 landings, after the effective date of the AD.

The FAA has determined that a correction to AD 2004-09-05 is necessary. The correction will revise the grace period portion of the compliance time in paragraph (b)(2) of the AD from 25 landings to 50 landings after the effective date of the AD.

Correction of Publication

This document corrects the error and correctly adds the AD as an amendment to section 39.13 of the Federal Aviation Regulations (14 CFR 39.13).

The AD is reprinted in its entirety for the convenience of affected operators. The effective date of the AD remains June 2, 2004.

Since this action only extends the compliance time specified in paragraph (b)(2) of the AD, it has no adverse economic impact and imposes no additional burden on any person. Therefore, the FAA has determined that notice and public procedures are unnecessary.

List of Subjects in 14 CFR Part 39

Air transportation, Aircraft, Aviation safety, Incorporation by reference, Safety.

Adoption of the Correction

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Corrected]

2. Section 39.13 is amended by correctly adding the following airworthiness directive (AD):

2004-09-05 Cessna Airplane Company: Amendment 39-13594. Docket 2000-NM-65-AD.

Applicability: Model 500 and 501 airplanes, serial numbers 0001 through 0689 inclusive, and Model 550 and 551 airplanes, serial numbers 0002 through 0733 inclusive; certificated in any category; equipped with BFGoodrich brake assembly part number (P/N) 2-1528-6 or 2-1530-4.

Compliance: Required as indicated, unless accomplished previously.

To prevent jamming of the wheel/tire assembly, which could result in a loss of directional control or braking performance upon landing, accomplish the following:

Inspection of Stator Disks for Change Letter

(a) Within 50 landings or 90 days after the effective date of this AD, whichever is first, inspect the stator disks on the brake assembly to determine if “CHG AI” or “CHG B” or a higher change letter is impression-stamped on each disk, in accordance with Goodrich Service Bulletin 2-1528-32-2 (for airplanes equipped with BFGoodrich brake assembly P/N 2-1528-6); or Goodrich Service Bulletin 2-1530-32-2 (for airplanes equipped with BFGoodrich brake assembly P/N 2-1530-4); both Revision 5; both dated February 19, 2003; as applicable. If both disks are stamped with “CHG AI” or “CHG B” or a higher change letter, no further action is required by this paragraph. A review of airplane maintenance records is acceptable in lieu of an inspection of the stator disks if the change letter of the stator disks can be positively determined from that review.

Inspection for Cracked or Broken Stator Disks

(b) For any stator disk not stamped with “CHG AI” or “CHG B” or a higher change letter: At the applicable compliance time specified in paragraph (b)(1) or (b)(2) of this AD, perform a detailed inspection for cracked or broken stator disks; in accordance with Goodrich Service Bulletin 2-1528-32-2 (for airplanes equipped with BFGoodrich brake assembly P/N 2-1528-6); or Goodrich Service Bulletin 2-1530-32-2 (for airplanes equipped with BFGoodrich brake assembly P/N 2-1530-4); both Revision 5; both dated February 19, 2003; as applicable.

(1) For airplanes that use thrust reversers: Inspect prior to the accumulation of 376 total landings on the brake assembly, or within 50 landings after the effective date of this AD, whichever is later.

(2) For airplanes that do not use thrust reversers: Inspect prior to the accumulation of 200 total landings on the brake assembly, or within 50 landings after the effective date of this AD, whichever is later.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Follow-On Actions (No Cracked or Broken Stator Disk)

(c) If no cracked or broken stator disk is found, before further flight, reassemble the brake assembly and, if the piston housing is impression-stamped with the letters “SB,” obliterate the existing markings on the piston housing by stamping “XX” over the letters “SB.” If paragraph E.(3)(a) or E.(3)(b), as applicable, of Goodrich Service Bulletin 2-1528-32-2 (for airplanes equipped with BFGoodrich brake assembly P/N 2-1528-6); or Goodrich Service Bulletin 2-1530-32-2 (for airplanes equipped with BFGoodrich brake assembly P/N 2-1530-4); both Revision 5; both dated February 19, 2003; as applicable; specifies repetitive inspections, repeat the inspection required by paragraph (b) of this AD at intervals not to exceed those specified in the service bulletin, until paragraph (e) of this AD is accomplished.

Corrective Action (Cracked or Broken Stator Disk)

(d) If any cracked or broken stator disk is found, prior to further flight, replace the brake assembly with a new or serviceable brake assembly; in accordance with Goodrich Service Bulletin 2-1528-32-2 (for airplanes equipped with BFGoodrich brake assembly P/N 2-1528-6); or Goodrich Service Bulletin 2-1530-32-2 (for airplanes equipped with BFGoodrich brake assembly P/N 2-1530-4); both Revision 5; both dated February 19, 2003; as applicable. If repetitive inspections are required by paragraph (c) of this AD, replacement of all brake assemblies on the airplane with new or serviceable brake assemblies that contain only stator disks stamped with “CHG AI” or “CHG B” or a higher change letter terminates those inspections.

Replacement of Brake Assembly

(e) When the brake assembly has accumulated 700 total landings since its installation or within 50 landings on the airplane after the effective date of this AD, whichever is later, replace the brake assembly with a new or serviceable brake assembly; in accordance with Goodrich Service Bulletin 2-1528-32-2 (for airplanes equipped with BFGoodrich brake assembly P/N 2-1528-6); or Goodrich Service Bulletin 2-1530-32-2 (for airplanes equipped with BFGoodrich brake assembly P/N 2-1530-4); both Revision 5; both dated February 19, 2003; as applicable. If repetitive inspections are required by paragraph (c) of this AD, replacement of all brake assemblies on the airplane with new or serviceable brake assemblies that contain only stator disks stamped with “CHG AI” or “CHG B” or a higher change letter terminates those inspections.

Parts Installation

(f) As of the effective date of this AD, no person may install a BFGoodrich brake assembly on any airplane unless it has been inspected as specified in paragraph (f)(1) or (f)(2) of this AD, and found to be free of cracked or broken stator disks.

(1) For BFGoodrich brake assembly P/N 2-1528-6: Brake assembly must be inspected in accordance with paragraphs (a), (b), and (c) of this AD, as applicable, in accordance with the service information specified in those paragraphs or BFGoodrich Service Bulletin 2-1528-32-3, dated March 23, 2000.

(2) For BFGoodrich brake assembly P/N 2-1530-4: Brake assembly must be inspected in accordance with paragraphs (a), (b), and (c) of this AD, as applicable, in accordance with the service information specified in those paragraphs or BFGoodrich Service Bulletin 2-1530-32-3, dated March 23, 2000.

Alternative Methods of Compliance

(g) In accordance with 14 CFR 39.19, the Manager, Wichita Aircraft Certification Office (ACO), FAA, is authorized to approve alternative methods of compliance for this AD.

Incorporation by Reference

(h) Unless otherwise specified in this AD, the actions shall be done in accordance with the applicable service bulletin listed in Table 1 of this AD.

Table 1.—Service Bulletins Incorporated by Reference
Service bulletin | Revision | Date
BFGoodrich Service Bulletin 2-1528-32-3 | Original | March 23, 2000.
BFGoodrich Service Bulletin 2-1530-32-3 | Original | March 23, 2000.
Goodrich Service Bulletin 2-1528-32-2 | 5 | February 19, 2003.
Goodrich Service Bulletin 2-1530-32-2 | 5 | February 19, 2003.

This incorporation by reference was approved previously by the Director of the Federal Register in accordance with 5 U.S.C. 552(a) and 1 CFR part 51 as of June 2, 2004 (69 FR 23093, April 28, 2004). Copies may be obtained from Cessna Aircraft Co., P.O. Box 7706, Wichita, Kansas 67277. Copies may be inspected at the FAA, Transport Airplane Directorate, 1601 Lind Avenue, SW., Renton, Washington; at the FAA, Wichita Aircraft Certification Office, 1801 Airport Road, Room 100, Mid-Continent Airport, Wichita, Kansas; or at the National Archives and Records Administration (NARA). For information on the availability of this material at NARA, call (202) 741-6030, or go to: http://www.archives.gov/federal_register/code_of_federal_regulations/ibr_locations.html.

Effective Date

(i) The effective date of this amendment remains June 2, 2004.

Issued in Renton, Washington, on June 7, 2004.
Kalene C. Yanamura,
Acting Manager, Transport Airplane Directorate, Aircraft Certification Service.

[FR Doc. 04-13336 Filed 6-14-04; 8:45 am]

BILLING CODE 4910-13-P